DEPARTMENT OF TRANSPORTATION

Federal Motor Carrier Safety Administration

[Docket No. FMCSA-2009-0344]

Agency Information Collection Activities; Revision of a Currently-Approved Information Collection Request: Financial Responsibility for Motor Carriers of Passengers and Motor Carriers of Property

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval. The FMCSA requests approval to revise and extend an information collection request (ICR) entitled, “Financial Responsibility for Motor Carriers of Passengers and Motor Carriers of Property.” The information collected will be used to help ensure that motor carriers of passengers and motor carriers of property maintain appropriate levels of financial responsibility to operate on public highways. On October 19, 2009, FMCSA published a Federal Register notice (74 FR 53543) allowing for a 60-day comment period on the revision of this ICR. No comments were received in response to the notice.

DATES: Please send your comments by January 21, 2010. OMB must receive your comments by this date in order to act quickly on the ICR.

ADDRESSES: All comments should reference Federal Docket Management System (FDMS) Docket Number FMCSA-2009-0344. Interested persons are invited to submit written comments on the proposed information collection to the Office of Information and Regulatory Affairs, Office of Management and Budget. Comments should be addressed to the attention of the Desk Officer, Department of Transportation/Office of the Secretary, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Ms. Dorothea Grymes, Commercial Enforcement Division, Federal Motor Carrier Safety Administration, West Building 6th Floor, 1200 New Jersey Avenue, SE., Washington, DC 20590. Telephone: 202-385-2405; e-mail: dorothea.grymes@dot.gov.

SUPPLEMENTARY INFORMATION: Title: Financial Responsibility for Motor Carriers of Passengers and Motor Carriers of Property.

OMB Control Number: 2126-0008.

Type of Request: Revision of a currently-approved information collection.

Respondents: Insurance and surety companies of motor carriers of property (Forms MCS-90 and MCS-82) and motor carriers of passengers (Forms MCS-90B and MCS-82B).

Estimated Number of Respondents: 175,338.

Estimated Time per Response: The FMCSA estimates it takes two minutes to complete the Endorsement for Motor Carrier Policies of Insurances for Public Liability or three minutes for the Motor Carrier Public Liability Surety Bond; and one minute to place either document on board the vehicle (foreign-domiciled motor carriers only) [49 CFR 387.7(f)]. These endorsements, and any written decision or order authorizing a motor carrier to self-insure are maintained at the motor carrier's principal place of business [49 CFR 387.7(d)].

Expiration Date: March 31, 2010.

Frequency of Response: Upon creation, change or replacement of an insurance policy or surety bond.

Estimated Total Annual Burden: 4, 056 burden hours [182 hours (5,469 responses × 2 minutes/60 minutes) for Passenger Carriers insurance endorsements + 3,401 hours (102,027 responses × 2 minutes/60 minutes) for Property Carriers insurance endorsements + 33 hours (652 responses × 3 minutes/60 minutes) for Property Carriers Surety Bonds) + 440 hours (25,896 responses by Canada-domiciled carriers + 494 responses by Mexico- and Non-North America-domiciled carriers × 1 minute/60 minutes) for placing financial responsibility documents in all vehicles operated within the U.S. by motor carriers domiciled in Canada, Mexico, and Non-North America (NNA)].

Background: The Secretary is responsible for implementing regulations which establish minimal levels of financial responsibility for: (1) For-hire motor carriers of property to cover public liability, property damage and environment restoration, and (2) for-hire motor carriers of passengers to cover public liability and property damage. The Endorsement for Motor Carrier Policies of Insurance for Public Liability (Forms MCS-90/90B) and the Motor Carrier Public Liability Surety Bond (Forms MCS-82/82B) contain the minimum amount of information necessary to document that a motor carrier of property or passengers has obtained, and has in effect, the minimum levels of financial responsibility as set forth in applicable regulations (motor carriers of property—49 CFR 387.9; and motor carrier of passengers—49 CFR 387.33). FMCSA and the public can verify that a motor carrier of property or passengers has obtained, and has in effect, the required minimum levels of financial responsibility, by use of the information enclosed within these documents.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: December 15, 2009.
David Anewalt,
Acting Associate Administrator for Research and Information Technology.

[FR Doc. E9-30341 Filed 12-21-09; 8:45 am]

BILLING CODE 4910-EX-P